FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 9, 2009.

A. Federal Reserve Bank of Atlanta (Steve Foley, Vice President) 1000 Peachtree Street, N.E., Atlanta, Georgia 30309:

1. David Weir Wood, II, Laura Halsey Wood, John Halsey Wood, David Weir Wood, II, Sidney Wood Clap, Katherine Wood Hamilton, all of Birmingham, Alabama, and Susan Soule Wood, Pensacola, Florida; to acquire additional shares of Capital South Bancorp, and its subsidiary CapitalSouth Bank, both of Birmingham, Alabama.

2. Harold B. Dunn, Birmingham, Alabama, Harold Crockett Dunn, Salinas, California, and Rebecca Dunn Bryant, Fairhope, Alabama; to acquire additional voting shares of CapitalSouth Bancorp, and its subsidiary, CapitalSouth Bank, both of Birmingham, Alabama.

B. Federal Reserve Bank of Kansas City (Todd Offerbacker, Assistant Vice President) 925 Grand Avenue, Kansas City, Missouri 64198-0001:

1. Matthew A. Michaelis, New York, New York, and Amy L. Madsen, Wichita, Kansas, as proposed trustees of the M.D. Michaelis Trust F, the Paula Sue Michaelis Trust F, the Matthew Michaelis Trust F, the Amy Loflin Trust F, and the Laura Haunschild Trust F, all dated October 27, 2003, Wichita, Kansas; to acquire voting shares of Emprise Financial Corporation, and thereby acquire shares of Emprise Bank, both in Wichita, Kansas.

Board of Governors of the Federal Reserve System, January 22, 2009.
Robert deV. Frierson,
Deputy Secretary of the Board.

[FR Doc. E9-1697 Filed 1-26-09; 8:45 am]

BILLING CODE 6210-01-S